DEPARTMENT OF STATE

[Public Notice 4114]

Culturally Significant Objects Imported for Exhibition; Determinations: “Old Masters, Impressionists, and Moderns: French Masterworks from the State Pushkin Museum, Moscow”

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, I hereby determine that the object to be included in the exhibition “Old Masters, Impressionists, and Moderns: French Masterworks from the State Pushkin Museum, Moscow,” imported from abroad for temporary exhibition within the United States, is of cultural significance. The objects are imported pursuant to a loan agreement with the foreign owner. I also determine that the exhibition or display of the exhibit objects at The Museum of Fine Arts, Houston, TX from on or about December 15, 2002 to on or about March 9. 2003, the High Museum of Art, Atlanta, GA from on or about April 5, 2003 to on or about June 29, 2003, and the Los Angeles County Museum of Art, Los Angeles, CA from on or about July 27, 2003 to on or about October 12, 2003, and at possible additional venues yet to be determined, is in the national interest. Public Notice of these Determinations is ordered to be published in the Federal Register.

FOR FURTHER INFORMATION CONTACT: For further information, contact Carol B. Epstein, Attorney-Adviser, Office of the Legal Adviser, U.S. Department of State, (telephone: 202/619-6981). The address is U.S. Department of State, SA-44, 301 4th Street, SW., Room 700, Washington, DC 20547-0001.

Dated: August 22, 2002.
Miller Crouch,
Acting Assistant Secretary for Educational and Cultural Affairs, Department of State.

[FR Doc. 02-22223 Filed 8-29-02; 8:45 am]

BILLING CODE 4710-08-P